DEPARTMENT OF THE INTERIOR

Bureau of Land Management

[LLAK927000 L54200000 FR0000 LVDIL09L0430; AA-086371]

Notice of Application for a Recordable Disclaimer of Interest for Lands Underlying the Kuskokwim River in Alaska

AGENCY: Bureau of Land Management, Interior.

ACTION: Notice.

SUMMARY: The State of Alaska has filed an application with the Bureau of Land Management (BLM) for a Recordable Disclaimer of Interest from the United States in those lands underlying the Kuskokwim River in Southwestern Alaska. The State asserts that the Kuskokwim River was navigable and unreserved at the time of Statehood; therefore, title to the submerged lands passed to the State at the time of Statehood (1959). Certain lands included in the application are within the exterior boundary of the Yukon Delta National Wildlife Refuge, created by the Alaska National Interest Lands Conservation Act of 1980, and administered by the U.S. Fish and Wildlife Service.

DATES: All comments to this action should be received on or before December 2, 2010.

ADDRESSES: Comments on the State of Alaska's application or the BLM Draft Summary Report must be filed with the Chief, Branch of Survey Planning and Preparation (AK-9270), Division of Cadastral Survey, BLM Alaska State Office, 222 West 7th Avenue, #13, Anchorage, Alaska 99513-7599.

FOR FURTHER INFORMATION CONTACT: Jack Frost, 907-271-5531; E-mail Jack_Frost@blm.gov; or visit the BLM Recordable Disclaimer of Interest Web site at http://www.blm.gov/ak/st/en/prog/rdi.html.

SUPPLEMENTARY INFORMATION: On March 10, 2006, the State of Alaska filed an application for a Recordable Disclaimer of Interest pursuant to Section 315 of the Federal Lands Policy and Management Act and the regulations contained in 43 CFR Subpart 1864 for the lands underlying the Kuskokwim River (AA-086371). A Recordable Disclaimer of Interest, if issued, will confirm that the United States has no valid interest in the subject lands. This notice is intended to notify the public of the pending application and the State's grounds for supporting it. The State asserts that this river is navigable. Therefore, under the Equal Footing Doctrine, the Submerged Lands Act of 1953, the Submerged Lands Act of 1988, the Alaska Statehood Act, or any other legally cognizable reason, ownership of these lands underlying the river automatically passed from the United States to the State at the time of statehood in 1959.

The State's application, AA-086371, is for “all submerged lands lying within the bed of the Kuskokwim River, and all interconnected sloughs, between the ordinary high water lines of the left and right banks from its origins at the confluence with the South Fork of Kuskokwim River and North Fork of Kuskokwim River within Township 28 South, Range 22 East, Kateel River Meridian, Alaska, downstream to its confluence with the Kuskokwim Bay within Township 2 South, Range 77 West, Seward Meridian, Alaska.” The State did not identify any known adverse claimant or occupant of the affected lands.

A final decision on the merits of the application will not be made before December 2, 2010. During the 90-day period, interested parties may comment on the State's application, AA-086371, and supporting evidence. Interested parties may also comment during this time on the BLM's Draft Summary Report. The State's application and the BLM Draft Summary Report may be viewed on the BLM Recordable Disclaimer of Interest Web site at http://www.blm.gov/ak/st/en/prog/rdi.html, or in the BLM Public Room located at 222 West 7th Avenue, #13, Anchorage, Alaska 99513.

Comments filed with the Division of Cadastral Survey, including names and street addresses of commenters, will be available for public inspection at the BLM Alaska State Office (see ADDRESSES above), during regular business hours 7:30 a.m. to 4:30 p.m., Monday through Friday, except holidays.

Before including your address, phone number, e-mail address, or other personal identifying information in your comment, you should be aware that your entire comment—including your personal identifying information—may be made publicly available at any time. While you can ask us in your comment to withhold your personal identifying information from public review, we cannot guarantee that we will be able to do so.

If no valid objection is received, a Disclaimer of Interest may be approved, if all else is proper, stating that the United States does not have a valid interest in these lands.

Dated: July 9, 2010.
Craig Frichtl,
Chief, Branch of Survey Planning and Preparation.

[FR Doc. 2010-22065 Filed 9-2-10; 8:45 am]

BILLING CODE 4310-JA-P